DEPARTMENT OF STATE

[Delegation of Authority No. 473]

Delegation of Authority Approval of Construction Security Certifications to Congress

By virtue of the authority vested in the Secretary of State by the laws of the United States, including 22 U.S.C. 2651a; the Diplomatic Security Act, codified in 22 U.S.C. 4801, et seq.; and the Foreign Affairs Authorization Act, 1988 and 1989 (Pub. L. 100-204) (the Act), as amended, I hereby delegate to the Under Secretary for Management, to the extent authorized by law, the authority to approve submission to Congress of the certifications required by section 160(a) of the Act.

The authority delegated herein may also be exercised by the Deputy Under Secretary for Management, to the extent authorized by law; and by the Secretary and Deputy Secretary.

This delegation does not repeal or amend any other delegation currently in effect. Any act, authority, or procedure subject to, or affected by, this delegation shall be deemed to be such act, authority, or procedure as amended from time to time.

This delegation of authority shall be published in the Federal Register.

Dated: June 19, 2019.
Michael R. Pompeo,
Secretary of State, Department of State.

[FR Doc. 2019-14455 Filed 7-5-19; 8:45 am]

BILLING CODE 4710-43-P